DEPARTMENT OF TRANSPORTATION

Federal Aviation Administration

14 CFR Part 39

[Docket No. FAA-2012-0187; Directorate Identifier 2011-NM-094-AD]

RIN 2120-AA64

Airworthiness Directives; The Boeing Company Airplanes

AGENCY: Federal Aviation Administration (FAA), DOT.

ACTION: Notice of proposed rulemaking (NPRM); reopening of comment period.

SUMMARY: This document announces a reopening of the comment period for the above-referenced NPRM, which proposed the adoption of a new airworthiness directive (AD) for certain The Boeing Company Model 757 airplanes. That NPRM invites comments concerning the proposed requirement to modify the fuel quantity indication system (FQIS) wiring or fuel tank systems to prevent development of an ignition source inside the center fuel tank. This reopening of the comment period is necessary to provide all interested persons an opportunity to present their views on the proposed requirements of that NPRM.

DATES: We must receive comments on the NPRM by August 6, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Rebel Nichols, Aerospace Engineer, Propulsion Branch, ANM-140S, FAA, Seattle Aircraft Certification Office (ACO), 1601 Lind Avenue SW., Renton, Washington 98057-3356; phone: 425-917-6509; fax: 425-917-6590; email: rebel.nichols@faa.gov.

SUPPLEMENTARY INFORMATION:

Comments Invited

We invite you to send any written relevant data, views, or arguments about this proposed AD. Send your comments to an address listed under the ADDRESSES section. Include “Docket No. FAA-2012-0187; Directorate Identifier 2011-NM-094-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued an NPRM to amend 14 CFR part 39 to include an AD that would apply to certain The Boeing Company Model 757 airplanes. That NPRM published in the Federal Register on March 1, 2012 (77 FR 12506). That NPRM proposed to require modifying the fuel quantity indication system wiring or fuel tank systems to prevent development of an ignition source inside the center fuel tank.

That action (77 FR 12506, March 1, 2012) invites comments on regulatory, economic, environmental, and energy aspects of the proposal.

That action (77 FR 12506, March 1, 2012) was prompted by fuel system reviews conducted by the manufacturer. The actions specified by the NPRM are intended to prevent ignition sources inside the center fuel tank, which, in combination with flammable fuel vapors, could result in fuel tank explosions and consequent loss of the airplane.

Actions Since NPRM (77 FR 12506, March 1, 2012) Was Issued

Since we issued the NPRM (77 FR 12506, March 1, 2012), we have received a request from Airlines for America (A4A), and James Hurd on behalf of the Families of TWA Flight 800, to extend the comment period. A4A requested a 60-day extension because of the extensive scope and significant potential impact of the NPRM, the lack of associated service information, and the need for proper review of the results of prototype efforts. A4A stated that this extension would provide operators additional time to develop estimates of technical methods of compliance with the NPRM, to develop estimates of the potential impact of those methods, and to prepare comments for the rules docket.

We have considered the commenters' request. We find it appropriate to extend the comment period to give all interested persons additional time to examine the proposed requirements and submit comments. We have determined that extending the comment period by 60 days will not compromise the safety of the affected airplanes.

The comment period for Docket No. FAA-2012-0187 closes August 6, 2012.

Because no other portion of the proposal or other regulatory information has been changed, the entire proposal (77 FR 12506, March 1, 2012) is not being republished.

Issued in Renton, Washington, on May 24, 2012.
Michael Kaszycki,
Acting Manager, Transport Airplane Directorate, Aircraft Certification Service.

[FR Doc. 2012-13556 Filed 6-4-12; 8:45 am]

BILLING CODE 4910-13-P